DEPARTMENT OF EDUCATION

Applications for New Awards; Migrant Education Program Consortium Incentive Grant Program

AGENCY: Office of Elementary and Secondary Education, Department of Education.

ACTION: Notice.

SUMMARY: The Department of Education is issuing a notice inviting applications for fiscal year (FY) 2023 for the Migrant Education Program (MEP) Consortium Incentive Grant (CIG) program, Assistance Listing Number 84.144F.

DATES:

Applications Available: February 27, 2023.

Deadline for Transmittal of Applications: April 24, 2023.

Deadline for Intergovernmental Review: June 23, 2023.

Pre-Application Webinar Information: The Department will hold a pre-application workshop via webinar for prospective applicants on March 7, 2023 at 11:00 a.m. Eastern Time.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs. Please note that these Common Instructions supersede the version published on December 27, 2021.

FOR FURTHER INFORMATION CONTACT: Michael Meltzer, U.S. Department of Education. Telephone: (202) 987-1657. Email: Michael.Meltzer@ed.gov.

If you are deaf, hard of hearing, or have a speech disability and wish to access telecommunications relay services, please dial 7-1-1.

SUPPLEMENTARY INFORMATION:

Full Text of Announcement

I. Funding Opportunity Description

Purpose of Program: The purpose of the MEP CIG program is to provide incentive grants to State educational agencies (SEAs) that participate in a consortium with one or more other SEAs or other appropriate entities to improve the delivery of services to migratory children whose education is interrupted. Through this program, the Department provides financial incentives to SEAs that receive Title I, Part C (MEP) funding to participate in high-quality consortia to improve the intrastate and interstate coordination of migrant education programs by addressing key needs of migratory children whose education is interrupted.

Background: On March 3, 2004, the Department published in the Federal Register a notice of final requirements for the CIG program (69 FR 10109) (2004 CIG Notice of Final Requirements (NFR)). In the 2004 CIG NFR, the Department established seven absolute priorities that promote key national objectives of the MEP. The Department added an eighth absolute priority when it published in the Federal Register a notice of final priority on March 12, 2008 (73 FR 13217) (2008 CIG Notice of Final Priority (NFP)).

For FY 2023, the Department is focusing the CIG competition on four of the eight absolute priorities. These absolute priorities were selected because they closely align with the Administration's priorities. Specifically, the FY 2023 competition will focus on improving the proper and timely identification and recruitment of eligible migratory children, improving the school readiness of preschool-aged migratory children, strengthening the involvement of migratory parents in the education of migratory students, and improving the education attainment of out-of-school migratory youth.

The FY 2023 competition also includes three competitive preference priorities from the Department's Notice of Final Priorities and Definitions—Secretary's Supplemental Priorities and Definitions for Discretionary Grant Programs (Supplemental Priorities), published in the Federal Register on December 10, 2021 (86 FR 70612) (https://www.federalregister.gov/d/2021-26615).

Through these absolute and competitive preference priorities, we encourage applicants to consider projects that are best addressed by an interstate or intrastate solution. For example, a project could facilitate interstate collaboration to provide continuous access to instructional technology that supports migratory children; another project could help educators of migratory children select appropriate and evidence-based digital tools that will accelerate learning recovery after COVID-19 and get needed services to migratory children as expeditiously as possible.

In addition, we encourage applications that propose projects to strengthen the involvement of migratory parents in the education of their children. For example, applicants may propose to identify and utilize existing evidence-based resources to build capacity of migratory parents to engage in the community and to access community resources, as well as connect them to organizations such as parent advocacy groups. Another project may support the implementation of education-related family engagement action plans created by consortium States to inform the implementation of MEP parent involvement and family engagement activities and services.

Applicants are also encouraged to propose projects that build relationships with organizations and agencies serving migratory children and their families to identify, recruit, serve, or assess the education and health-related needs of migratory children and out-of-school migratory youth. For example, applicants could propose to develop formal partnerships with Migrant and Seasonal Head Start; Migrant Health; the High School Equivalency Program (HEP); the College Assistance Migrant Program (CAMP); local farm associations and agribusinesses; the Department of Labor; or other Federal, State, or local entities.

Priorities: This competition includes four absolute priorities and three competitive preference priorities. Absolute Priorities 1, 2, and 3 are from the 2004 CIG NFR. Absolute Priority 4 is from the 2008 CIG NFP. In Absolute Priorities 2, 3, and 4, the term “scientifically based” has been replaced with “evidence-based,” as explained in the Waiver of Proposed Rulemaking section of this notice.

The competitive preference priorities are from the Supplemental Priorities.

Absolute Priorities: For FY 2023, these priorities are absolute priorities. Under 34 CFR 75.105(c)(3) we consider only applications that meet one or more of these priorities.

The applicant must clearly indicate in the abstract section of its application to which absolute priority it is applying. If an applicant is interested in proposing separate projects (e.g., one that addresses Absolute Priority 1 and another that addresses Absolute Priority 2), the applicant must submit separate applications. The Department intends to create four funding slates for CIG applications—one for applications that meet Absolute Priority 1, a separate slate for applications that meet Absolute Priority 2, a separate slate for applications that meet Absolute Priority 3, and a fourth slate for applications that meet Absolute Priority 4. As a result, the Department may fund applications out of the overall rank order. The Department anticipates making at least one award on each slate, provided applications of sufficient quality are submitted, but the Department is not bound by these estimates.

These priorities are:

Absolute Priority 1: Services designed to improve the proper and timely identification and recruitment of eligible migratory children whose education is interrupted.

Absolute Priority 2: Services designed (based on a review of evidence-based research) to improve the school readiness of preschool-aged migratory children whose education is interrupted.

Absolute Priority 3: Services designed (based on a review of evidence-based research) to strengthen the involvement of migratory parents in the education of migratory students whose education is interrupted.

Absolute Priority 4: Services designed (based on a review of evidence-based research) to improve the educational attainment of out-of-school migratory youth whose education is interrupted.

Competitive Preference Priorities: For FY 2023, these priorities are competitive preference priorities. Under 34 CFR 75.105(c)(2)(i) we award up to an additional 10 points to an application, depending on how well the application meets one of the competitive preference priorities. Applicants may receive points for only one competitive preference priority. The applicant must indicate in the abstract section of its application which competitive preference priority, if any, it is addressing. While applicants are encouraged to address only one competitive preference priority, if an applicant chooses to address more than one competitive preference priority, the Department will instruct reviewers to score only the first competitive preference priority mentioned in the abstract.

The priorities are:

Competitive Preference Priority 1: Addressing the Impact of COVID-19 on Students, Educators, and Faculty (Up to 10 points).

Projects that are designed to address the impacts of the COVID-19 pandemic, including impacts that extend beyond the duration of the pandemic itself, on the students most impacted by the pandemic, with a focus on underserved students and the educators who serve them, through projects addressing students' social, emotional, mental health, and academic needs through approaches that are inclusive with regard to race, ethnicity, culture, language, and disability status.

Competitive Preference Priority 2: Promoting Equity in Student Access to Educational Resources and Opportunities (Up to 10 points).

Projects that are designed to promote education equity and adequacy in resources and opportunity for underserved students—

(a) In one of the following settings:

(1) Early learning programs.

(2) Career and technical education programs.

(3) Out-of-school-time settings.

(4) Adult learning;

(b) That examine the sources of inequity and inadequacy and implement responses and that may include establishing, expanding, or improving the engagement of underserved community members (including underserved students and families) in informing and making decisions that influence policy and practice at the school, district, or State level by elevating their voices, through their participation and their perspectives and providing them with access to opportunities for leadership (e.g., establishing partnerships between civic student government programs and parent and caregiver leadership initiatives).

Competitive Preference Priority 3: Strengthening Cross-Agency Coordination and Community Engagement to Advance Systemic Change (Up to 10 points).

Projects that are designed to take a systemic evidence-based approach to improving outcomes for underserved students through establishing cross-agency partnerships, or community-based partnerships with local nonprofit organizations, businesses, philanthropic organizations, or others, to meet family well-being needs.

Definitions: The following definitions apply to this competition. The definitions of “demonstrates a rationale,” “evidence-based,” “logic model,” “project component,” and “relevant outcome” are from 34 CFR 77.1(c). The definitions of “early learning,” “educator,” and “underserved student” are from the Supplemental Priorities.

Demonstrates a rationale means a key project component included in the project's logic model is informed by research or evaluation findings that suggest the project component is likely to improve relevant outcomes.

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

Educator means an individual who is an early learning educator, teacher, principal or other school leader, specialized instructional support personnel (e.g., school psychologist, counselor, school social worker, early intervention service personnel), paraprofessional, or faculty.

Evidence-based means the proposed project component is supported by evidence that demonstrates a rationale.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Underserved student means a migrant student (which may include children in early learning environments and students in K-12 programs).

Waiver of Proposed Rulemaking: The term “scientifically based” has been replaced with the term “evidence-based,” as defined in 34 CFR 77.1(c). Under the Administrative Procedure Act (5 U.S.C. 553) (APA) the Department generally offers interested parties the opportunity to comment on proposed regulations. However, the APA provides that an agency is not required to conduct notice-and-comment rulemaking when the agency, for good cause, finds that the requirement is impracticable, unnecessary, or contrary to the public interest (5 U.S.C. 553(b)(B) and (d)(3)). There is good cause to waive rulemaking in this case because the term “scientifically based” and its definition are no longer in statute. Therefore, under 5 U.S.C. 553(b)(B), the Secretary has determined that obtaining public comment on the removal of the term “scientifically based” and the adoption of the term “evidence-based” is unnecessary and contrary to the public interest.

The APA also generally requires that regulations be published at least 30 days before their effective date, unless the agency has good cause to implement its regulations sooner (5 U.S.C. 553(d)(3)). Because this final regulatory action merely updates outdated regulations, the Secretary also has good cause to waive the 30-day delay in the effective date of these regulatory changes under 5 U.S.C. 553(d)(3).

Program Authority: 20 U.S.C. 6398(d).

Applicable Regulations: (a) The Education Department General Administrative Regulations in 34 CFR parts 75 (except 75.232), 76, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The 2004 CIG NFR. (e) The 2008 CIG NFP. (f) The notice of final requirement published in the Federal Register on December 31, 2013 (78 FR 79613). (g) The MEP regulations in 34 CFR 200.81-200.89. (h) The Supplemental Priorities.

Note: The regulations in 34 CFR part 86 apply to institutions of higher education only.

II. Award Information

Type of Award: Formula grants.

Estimated Available Funds: $3,000,000.

Estimated Range of Awards: $50,000-$150,000.

The actual size of an SEA's award will depend on the number of SEAs that participate in high-quality consortia and the size of those SEAs' MEP formula grant allocations.

Estimated Average Size of Awards: $100,000.

Maximum Award: An SEA cannot receive an incentive award that exceeds its MEP Basic State Formula Grant allocation or $250,000, whichever is less, for a single budget period of 12 months.

Estimated Number of Awards: 30 SEA awards. An SEA that participates in a consortium may receive only one incentive grant award regardless of the number of consortia in which it participates.

Note: The Department is not bound by any estimates in this notice.

Project Period: Up to 36 months.

III. Eligibility Information

1. Eligible Applicants: SEAs receiving MEP Basic State Formula Grants, in a consortium with one or more other SEAs or other appropriate entities. An application for an incentive grant must be submitted by an SEA that will act as the “lead SEA” for the proposed consortium.

2. a. Cost Sharing or Matching: This program does not require cost sharing or matching.

b. Supplement-Not-Supplant: This program involves supplement-not-supplant funding requirements. Pursuant to the 2004 CIG NFR, the supplement-not-supplant provisions in sections 1118(b) and 1304(c)(2) of the ESEA are applicable to this program.

3. Subgrantees: Under 34 CFR 75.708(b) and (c) a grantee under this competition may award subgrants. Pursuant to ESEA section 1302, the Secretary makes grants to SEAs, or combinations of such agencies, to establish or improve, directly or through local operating agencies, programs of education for migratory children.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

Note: Applicants are not required to submit Budget information (ED 524). Please see the application package for a complete list of application requirements.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 25 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

5. Use of CIG Funds: SEAs in consortia receiving awards must implement the activities described in their project applications as a condition of their receipt of funds. CIG awards are treated as additional funds available to an SEA under the MEP Basic State Formula Grant program. Moreover, general requirements governing the use and reporting of awarded funds would be governed by provisions of 34 CFR part 76, which govern State-administered formula grant programs, and the Uniform Administrative Requirements, Cost Principles, and Audit Requirements for Federal Awards in 2 CFR part 200.

V. Application Review Information

1. Selection Criteria: The selection criteria for this program are from 34 CFR part 75.210 and are as follows:

(a) Significance (10 points). The Secretary considers the significance of the proposed project. In determining the significance of the proposed project, the Secretary considers:

(1) The extent to which the proposed project is likely to build local capacity to provide, improve, or expand services that address the needs of the target population. (Up to 5 points)

(2) The extent to which the results of the proposed project are to be disseminated in ways that will enable others to use the information or strategies. (Up to 5 points)

(b) Quality of the project design (30 points). The Secretary considers the quality of the design of the proposed project. In determining the quality of the design of the proposed project, the Secretary considers:

(1) The extent to which the goals, objectives, and outcomes to be achieved by the proposed project are clearly specified and measurable. (Up to 10 points)

(2) The extent to which the design of the proposed project is appropriate to, and will successfully address, the needs of the target population or other identified needs. (Up to 7 points)

(3) The extent to which the proposed project will establish linkages with other appropriate agencies and organizations providing services to the target population. (Up to 5 points)

(4) The extent to which the proposed project demonstrates a rationale (as defined in this notice). (Up to 8 points)

(c) Quality of project services (30 points). The Secretary considers the quality of the services to be provided by the proposed project.

(1) In determining the quality of the services to be provided by the proposed project, the Secretary considers the quality and sufficiency of strategies for ensuring equal access and treatment for eligible project participants who are members of groups that have traditionally been underrepresented based on race, color, national origin, sex, age, or disability. (Up to 3 points)

(2) In addition, the Secretary considers the following factors:

(i) The extent to which the services to be provided by the proposed project are appropriate to the needs of the intended recipients or beneficiaries of those services. (Up to 7 points)

(ii) The likely impact of the services to be provided by the proposed project on the intended recipients of those services. (Up to 10 points)

(iii) The extent to which the technical assistance services to be provided by the proposed project involve the use of efficient strategies, including the use of technology, as appropriate, and the leveraging of non-project resources. (Up to 5 points)

(iv) The extent to which the services to be provided by the proposed project involve the collaboration of appropriate partners for maximizing the effectiveness of project services. (Up to 5 points)

(d) Quality of the management plan (10 points). The Secretary considers the quality of the management plan for the proposed project. In determining the quality of the management plan for the proposed project, the Secretary considers the following factors:

(1) The adequacy of procedures for ensuring feedback and continuous improvement in the operation of the proposed project. (Up to 2 points)

(2) The adequacy of mechanisms for ensuring high-quality products and services from the proposed project. (Up to 3 points)

(3) The extent to which the time commitments of the project director and principal investigator and other key project personnel are appropriate and adequate to meet the objectives of the proposed project. (Up to 5 points)

(e) Quality of the project evaluation (20 points). The Secretary considers the quality of the evaluation to be conducted of the proposed project. In determining the quality of the project evaluation, the Secretary considers:

(1) The extent to which the methods of evaluation are thorough, feasible, and appropriate to the goals, objectives, and outcomes of the proposed project. (Up to 10 points)

(2) The extent to which the methods of evaluation will provide performance feedback and permit periodic assessment of progress toward achieving intended outcomes. (Up to 10 points)

2. Review and Selection Process: We remind potential applicants that in reviewing applications in any grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report as directed by the Secretary. If you receive a multiyear award, you must submit an annual performance report that provides the most current performance information as directed by the Secretary under 34 CFR 75.118. The Secretary may also require more frequent performance reports under 34 CFR 75.720(c). For specific requirements on reporting, please go to www.ed.gov/fund/grant/apply/appforms/appforms.html.

5. Performance Measures: Consortium grantees are required to report on their project's effectiveness based on the project objectives, performance measures, and scheduled activities outlined in the consortium's application.

In addition, all grantees are required, under 2 CFR 200.329, to report on program performance indicators as part of their Consolidated State Performance Report. The program performance indicators established by the Department for the MEP, of which the Consortium Incentive Grants are a component, are—

(a) The percentage of MEP students that scored at or above proficient on their State's annual reading/language arts assessments in grades 3-8;

(b) The percentage of MEP students that scored at or above proficient on their State's annual mathematics assessments in grades 3-8;

(c) The percentage of MEP students who were enrolled in grades 7-12, and graduated or were promoted to the next grade level; and

(d) The percentage of MEP students who entered 11th grade that had received full credit for Algebra I or a higher mathematics course.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF), text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

James F. Lane,
Senior Advisor, Office of the Secretary, Delegated the Authority to Perform the Functions and Duties of the Assistant Secretary for the Office Elementary and Secondary Education.

[FR Doc. 2023-03731 Filed 2-22-23; 8:45 am]

BILLING CODE 4000-01-P